DEPARTMENT OF HOUSING AND URBAN DEVELOPMENT

[Docket No. FR-5338-N-01]

Affirmatively Furthering Fair Housing and Fair Housing Plans; Notice of Informal Meeting

AGENCY: Office of the Assistant Secretary for Fair Housing and Equal Opportunity, HUD.

ACTION: Notice.

SUMMARY: This notice advises the public of an informal meeting that HUD intends to hold for the purpose of obtaining individual views and gathering information on specific issues related to HUD's intended development of a proposed rule concerning the obligation to affirmatively further fair housing. The issues for which HUD seeks input are primarily directed to improving HUD's oversight of recipients' implementation of the duty to affirmatively further fair housing. HUD specifically invites to this meeting representatives of fair housing and civil rights organizations, State and local governments, public housing agencies, private and public housing providers, lending institutions, and other interested members of the public.

Date and Location of Meeting: The meeting will be held on Wednesday, July 22, 2009, from 2 p.m. to 4 p.m. EDT, at HUD Headquarters, in Suite A of the Brooke-Mondale Auditorium, first floor of the Robert Weaver Building (HUD Headquarters), 451 7th Street, SW., Washington, DC 20410.

FOR FURTHER INFORMATION CONTACT: Bryan Greene, General Deputy Assistant Secretary for Fair Housing and Equal Opportunity, Room 5100, Department of Housing and Urban Development, 451 7th Street, SW., Washington, DC 20410; telephone number 202-708-4252 (this is not a toll-free number). Persons with hearing or speech impairments may access this telephone number via TTY by calling the toll-free Federal Information Relay Service at 800-877-8339.

SUPPLEMENTARY INFORMATION: A central part of HUD's mission is to ensure nondiscrimination in its programs and to promote fair and equal opportunities for all individuals. HUD and its program recipients have the statutory responsibility to affirmatively further fair housing opportunities in HUD programs.

If you are interested in participating in the July 22, 2009, meeting, please send an e-mail to: affh@hud.gov. The following information should be included in the e-mail: (a) Your full name; (b) name of your organization; (c) telephone number; (d) e-mail address; and (e) make, model, and serial number of laptop, if you plan on bringing a laptop computer to the meeting.

The purpose of this meeting is to obtain views, opinions, perspectives, and suggestions from meeting participants, rather than try and reach consensus on affirmatively furthering fair housing. Specific issues that HUD will ask meeting participants to address include the following:

• How can the existing process be improved;

• What documentation recipients currently use to demonstrate compliance with affirmatively furthering fair housing requirements and to support their certifications to affirmatively further fair housing;

• What factors should be included in an analysis of impediments for fair housing choice (AI);

• How often should the AIs be updated, while not creating undue burden;

• What are the advantages and disadvantages of creating a regional approach to affirmatively further fair housing; and

• What can communities and public housing agencies do to reduce housing segregation and increase housing opportunities for protected classes under the Federal housing civil rights laws.

The views, suggestions, and information provided at the July 22, 2009, informal meeting will inform HUD as it considers changes to improve HUD's guidance to grantees and enhance HUD's regulatory oversight.

Dated: July 6, 2009.
John Trasviña,
Assistant Secretary for Fair Housing and Equal Opportunity.

[FR Doc. E9-16542 Filed 7-8-09; 4:15 pm]

BILLING CODE 4210-67-P